DEPARTMENT OF JUSTICE

Notice of Lodging of Proposed First Amended Consent Decree Under the Clean Water Act

On May 2, 2016, the Department of Justice lodged a proposed First Amended Consent Decree with the United States District Court for the Northern District of Ohio in the lawsuit entitled United States v. City of Akron, Ohio, et al., Civil Action No. 09-cv-00272.

In this action the United States, and the State of Ohio in a cross-claim, sought civil penalties and injunctive relief for violations of the Clean Water Act, 33 U.S.C. 1251 et seq., in connection with the City of Akron's (“Akron's” or “City's”) operation of its municipal wastewater treatment facility and sewer system. Under the Consent Decree, which was approved by the Court in January 2014, Akron was required to develop and implement a comprehensive plan to address overflows from its combined sewer system and bypasses around secondary treatment at the wastewater treatment facility. That plan, known as the “Long Term Control Plan Update” (“LTCP Update”), which was approved by the United States in November 2011 and the State of Ohio in April 2012, sets forth specific projects that the City is required to implement, and identifies dates for completion of these projects.

The proposed amendment modifies two provisions of the 2014 Consent Decree to take into account new engineering solutions. Both of the affected projects are included in the approved LTCP Update. The first modification requires that the City expand secondary treatment at its wastewater treatment plant sooner than is required under the current agreement: Under the amended Decree, the City will achieve 220 million gallons/day of secondary treatment capacity by 2019 instead of 2021. In exchange, the City may delay by approximately two years the installation of a biologically enhanced high rate treatment (“BioActiflo”) unit at the treatment plant. The City has committed to, and the United States previously approved (under the terms of the Consent Decree itself), an increase in the size of secondary treatment capacity, and an equivalent reduction in the size of the BioActiflo unit.

The second modification eliminates the requirement for the City to construct a mile-and-a-half-long sewer line parallel to an existing interceptor that connects the combined sewer system to the wastewater treatment plant. In place of the parallel sewer, the amendment requires the City to construct a steel reinforced concrete cap along all but a fraction of the existing interceptor sewer line. The cap will be in place by November 2017, the same Achievement of Full Operation date as for the original project.

The publication of this notice opens a period for public comment on the First Amended Consent Decree. Comments should be addressed to the Assistant Attorney General, Environment and Natural Resources Division, and should refer to United States v. City of Akron, Ohio, et al., D.J. Ref. No. 90-5-1-1-3144/2. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the First Amendment to the Consent Decree may be examined and downloaded at this Justice Department Web site: https://www.justice.gov/enrd/consent-decrees. We will provide a paper copy of the proposed amendment to the Consent Decree upon written request and payment of reproduction costs. Please mail your request and payment to: Consent Decree Library, U.S. DOJ—ENRD, P.O. Box 7611, Washington, DC 20044-7611.

Please enclose a check or money order for $7.25 (25 cents per page reproduction cost) payable to the United States Treasury.

Randall M. Stone,
Acting Assistant Section Chief, Environmental Enforcement Section, Environment and Natural Resources Division.

[FR Doc. 2016-10954 Filed 5-9-16; 8:45 am]

BILLING CODE 4410-15-P